DEPARTMENT OF DEFENSE

Department of the Air Force

Notice of Intent To Prepare an Environmental Impact Statement for Proposed Mortar and Artillery Training at Richardson Training Area, Joint Base Elmendorf-Richardson, AK

AGENCY: Department of the Air Force, DoD.

ACTION: Notice of Intent.

SUMMARY: The U.S. Air Force (USAF) and the U.S. Army, acting as a Cooperating Agency, are issuing this Notice of Intent to prepare an Environmental Impact Statement (EIS) to assess the potential social, economic, and environmental impacts associated with modifying the conditions under which indirect live-fire weapons training can be conducted at Joint Base Elmendorf-Richardson (JBER), in order to meet Army training standards at home station.

DATES: The USAF will conduct formal scoping meetings for the public to learn more about the proposed action, and to provide comments. Scoping meetings will occur in Anchorage and Eagle River on the following dates and times: Monday, April 13, 2020, from 6 p.m. to 9 p.m., at Z.J. Loussac Library (Anchorage Public library) Learning Commons, 3600 Denali Street, Anchorage, Alaska and Tuesday, April 14, 2020, from 6 p.m. to 9 p.m., Eagle River Town Center Community Meeting Room, 12001 Business Blvd., Suite 170, Eagle River, Alaska.

The dates and times of scoping meetings will also be posted on the project website and will be announced in local newspapers of general circulation no less than 15 days prior to the meetings.

ADDRESSES: The project website (https://JBER-PMART-EIS.com) provides more information on the EIS and can be used to submit scoping comments. Scoping comments may also be submitted to: JBER Public Affairs, JBER.PA@US.AF.MIl, (907) 552-8151; (U.S. Post Office) JBER Public Affairs c/o Matthew Beattie, 10480 Sijan Ave., Suite 123, Joint Base Elmendorf-Richardson, AK 99506. Comments will be accepted at any time during the EIS process. To ensure the USAF has sufficient time to consider public input in the preparation of the Draft EIS, scoping comments should be submitted to the website or the address listed above by April 26, 2020.

SUPPLEMENTARY INFORMATION: The EIS will evaluate the potential impacts associated with the proposed action, which includes indirect live-fire training during all-seasons at the Eagle River Flats (ERF) Impact Area on JBER, a military base in Alaska, in order to fully meet Army training standards. The proposed action also includes expansion of the ERF impact area by approximately 585 acres. In addition, the EIS will evaluate an action alternative that would marginally meet Army training standards, and would not include expansion of the ERF impact area. The no action alternative will also be evaluated in the EIS, under which the Army would continue to train with the existing seasonal restrictions and which would require JBER home station units to deploy to other Army-controlled training lands to conduct required training. The USAF is the National Environmental Policy Act (NEPA) lead agency and the U.S. Army is a cooperating agency for this EIS process.

A Notice of Intent for a similar action was issued in 2007; however, this Notice of Intent supersedes the Notice of Intent that was issued in 2007.

Additional review and consultation which will be incorporated into the preparation of the Draft EIS will include, but are not necessarily limited to consultation under Section 7 of the Endangered Species Act and consultation under Section 106 of the National Historic Preservation Act.

The proposed actions at JBER have the potential to be located in a floodplain and/or wetland. Consistent with the requirements and objectives of Executive Order (E.O.) 11990, “Protection of Wetlands,” and E.O. 11988, “Floodplain Management,” state and federal regulatory agencies with special expertise in wetlands and floodplains will be contacted to request comment. Consistent with E.O. 11988 and E.O. 11990, this Notice of Intent initiates early public review of the proposed actions and alternatives, which have the potential to be located in a floodplain and/or wetland.

Scoping and Agency Coordination: To effectively define the full range of issues to be evaluated in the EIS, the Air Force will determine the scope of the analysis by soliciting comments from interested local, state, and federal elected officials and agencies, Alaska Native organizations, as well as interested members of the public and others. This is being done by providing a website where the public can submit comments and/or by having comments mailed to the mailing address provided above.

Adriane Paris,
Acting Air Force Federal Register Liaison Officer.

[FR Doc. 2020-05265 Filed 3-13-20; 8:45 am]

BILLING CODE 5001-10-P